FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202)-523-5793 or tradeanalysis@fmc.gov).

Agreement No.: 201188.

Title: Houston Terminal LLC Cooperative Working Agreement.

Parties: Ceres Gulf, Inc.; Container Marine Terminals LLC; Houston Terminal LLC; and Mediterranean Shipping Company, S.A.

Filing Party: Robert T. Basseches, Esq., Goodwin/Procter LLP; 901 New York Avenue; Washington, DC 20001.

Synopsis: The agreement would authorize the parties to operate Houston Terminal LLC and discuss and agree on matters relating to the operation of that company at the Port of Houston.

Agreement No.: 201189.

Title: New Orleans Terminal LLC Cooperative Working Agreement.

Parties: Ceres Gulf, Inc.; Container Marine Terminals LLC; New Orleans Terminal LLC; and Mediterranean Shipping Company, S.A.

Filing Party: Robert T. Basseches, Esq., Goodwin/Procter LLP; 901 New York Avenue; Washington, DC 20001.

Synopsis: The agreement would authorize the parties to operate New Orleans Terminal LLC and discuss and agree on matters relating to the operation of that company at the Port of New Orleans.

By Order of the Federal Maritime Commission.
Dated: June 27, 2008.
Karen V. Gregory,
Assistant Secretary.

[FR Doc. E8-15039 Filed 7-1-08; 8:45 am]

BILLING CODE 6730-01-P